DEPARTMENT OF TRANSPORTATION

Coast Guard

[USCG-1998-4734]

Exemptions of Manufacturers From Standards for Recreational Boats: Definitions of Watercraft

AGENCY: Coast Guard, DOT.

ACTION: Request for comments.

SUMMARY: In a notice published on October 19, 1999, the Coast Guard solicited comments so it could better respond to a petition for rulemaking submitted by the Personal Watercraft Industry Association (the PWIA). The petition asked the Coast Guard to authorize a new method of complying with laws on safety of recreational boating as they relate to personal watercraft (PWC). A comment from the American Canoe Association (the ACA) received after the close of the comment period raised a new issue on definitions of watercraft. This notice seeks comments on the desirability of establishing definitions of water-jet-powered watercraft, particularly PWC.

DATES: Comments and related material must reach the Document Management Facility on or before December 30, 2002.

ADDRESSES: To make sure your comments and related material [referred to USCG 1998-4734] do not enter the docket more than once, please submit them by only one of the following means:

(1) By mail to the Docket Management Facility, U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, at the address listed above between 9 a.m. and 5 p.m., Monday through Friday, except Federal holidays. You may also find this docket on the Internet at http://dms.dot.gov.

FOR FURTHER INFORMATION CONTACT: For questions on this proposed rule, contact Mr. Alston Colihan, Project Manager, Office of Boating Safety, Coast Guard, by telephone at 202-267-0981 or by e-mail at acolihan@comdt.uscg.mil. For questions on viewing or submitting material to the docket, call Ms. Dorothy Beard, Chief of Dockets, Department of Transportation, telephone 202-366-9329.

SUPPLEMENTARY INFORMATION:

Regulatory History

The Coast Guard published a request for comments on October 19, 1999 [64 FR 56287], so it could better respond to a petition for rulemaking submitted by the PWIA. The petition asked us to authorize a new method of complying with laws on safety of recreational boating as they relate to PWC. Because PWC are physically different from conventional boats, they cannot comply with current standards of the Coast Guard for safety. Therefore, manufacturers of PWC must apply for exemptions from these standards and demonstrate equivalent levels of safety. The petition suggested that we replace the exemption process with a requirement for manufacturers to comply with certain standards generated by the industry itself. The comment period closed on January 19, 2000.

The Coast Guard received 11 timely comments in response to that petition. But a comment from the ACA, received after the close of the comment period, raised a new issue on definitions of watercraft. While we haven't decided how or even whether to proceed with rulemaking, this request seeks public comments on the question of what to call PWC or how to define them.

Discussion of Comments

We received 11 timely comments about the notice and a request from the ACA to re-open the comment period and deal with a new issue. Here follow summaries of the comments and the request, and an analysis of the definitions propounded by the request.

Comments From State Boating Officials

A State Boating Law Administrator (SBLA) urges that we formally recognize a definition for PWC using the definitions from the International Standards Organization (ISO) and the Model Acts of the National Association of State Boating Law Administrators (NASBLA) and the PWIA as models to establish the definition. The SBLA states that we should refrain from referring to these vessels by a different name from PWC, because such a change would only create further confusion.

A second SBLA also favors adoption of an amended definition for PWC that addresses other forms of propulsion, combining the definitions from the Model Act of NASBLA for PWC and from ISO 13590. The comment states that our definition should not limit the number of persons that may be carried, but should limit the length of the vessel to 13 feet or preferably 16 feet. The comment favors use of the term PWC because of the public's familiarity with its usage. If we stopped using the term, the change would confuse nearly everyone, substantially impeding implementation of programs relative to these vessels.

A comment from NASBLA states that we should adopt an amended definition for PWC that addresses other forms of propulsion, combining the just-discussed definitions. The comment states that we should refrain from referring to these vessels by a different name from PWC, because everyone is familiar with the term and our changing it would be counter-productive. According to the comment, many States have passed statutes and instated rules on PWC and have adopted all or part of the Model Act of NASBLA for PWC, and any change in the terminology therefore would have a large effect on uniformity of boating laws throughout the country.

Comments From the PWIA

A comment from the PWIA states that there is no need for us to recognize or adopt a formal Federal definition of PWC separate from the existing definitions of vessel, motor vessel, recreational vessel, boat, and motorboat in relevant Federal statutes and rules. According to the comment, the existing definitions reflect a principled approach to retain broad definitions that cover a wide range of types of vessels, rather than attempt to create separate definitions for each different or new type. The comment states that the existing definitions encompass all past and current models of PWC and will cover any future models, regardless of their size, mode of propulsion, cargo and towing capacities, or other features. The comment states that PWC have undergone substantial changes in design and production and that the continuing evolution of the features of the vessels makes having a separate definition for PWC impracticable and unnecessary, especially considering that we have not attempted to develop or adopt separate definitions for other types of motorboats, such as bass boats, airboats, or racing boats.

The comment further states that the standards recommended by the ISO and SAE include a definition of PWC, and that the purpose of the definition is to specify those vessels that are subject to those standards. While there are other boats that might fit under this definition, except that they are powered by outboard motors, the comment states, the standards of the ISO and SAE are thus not applicable to such vessels. The comment also notes that somewhat different definitions of PWC appear in the Model State legislation of the PWIA and NASBLA and that the purpose of those definitions is to specify those vessels that are subject to States' age restrictions, operational rules, and livery requirements for PWC. The comment states that many States have modified NASBLA's definition of PWC to account for particular States' circumstances and policies. As a result, according to the comment, the States have shown that they do not want a uniform definition of PWC, and instead have used their discretion to develop definitions necessary to accomplish their interests in regulating the use of PWC within their jurisdictions.

With regard to the term thrillcraft, the comment states that, in addition to being pejorative, the term has no clearly understood meaning; similarly, the words sport boat would appear to encompass a wide variety of recreational vessels. According to the comment, use of the term Jet Ski, is also inappropriate, because the term is a registered trademark.

Comments From the ACA

Definitions Recommended by the ACA

The ACA asks that we phase out the use of the general term PWC for jet-pump-powered watercraft on which the operator and any passengers do not ride within the confines of a conventional hull, and that we replace it with a more specific term such as Personal Water Jet or Personal Jet Craft. The ACA recommends that we adopt the following definition or something close to it for the craft currently referred to as PWC:

The term, _____, means any watercraft that uses an engine powering a water-jet pump, or other form of jet thrust, as its primary source of propulsion, and that is designed to be operated by a person or persons sitting or standing on or astride the craft, rather than within the confines of the hull. These craft are often designed specifically for high-speed use and performance, and are often capable of carrying multiple passengers and gear.

The ACA also asks that we adopt specific terminology to describe water-jet-powered craft on which that the operator and passengers do ride within the confines of conventional hulls. The ACA recommends the use of a term such as Jet Boat, Jet Craft, or Water Jet to identify such watercraft. The ACA recommends that we adopt the following definition or something close to it for these craft:

The term, _____, means any watercraft that uses an engine powering a water-jet pump, or other form of jet thrust, as its primary source of propulsion, and that is designed to be operated from within the confines of the hull or cockpit. These craft are often designed specifically for high-speed use and performance, and are often capable of carrying multiple passengers and gear.

According to the ACA, the general term PWC is ambiguous and could just as easily describe any watercraft designed for operation by a single person—a canoe, kayak, catamaran, rowboat, or some other such craft. It states that the manufacturers of no particular type of craft should be able to simply lay claim to a general term. It notes that Webster's Dictionary defines the term personal to mean of, related to, or affecting a person and defines the term watercraft to mean craft for water transport. It states that these are real words with concrete meanings and thus that their usage together has a concrete meaning that is broad and not exclusively related to jet-pump-powered watercraft.

Confusion Concerning Watercraft Alleged by the ACA

The ACA believes that what it considers improper usage of this terminology creates the likelihood of confusion on the nation's waterways and throughout the regulatory process. According to the ACA, the confusion caused by the industry's use of the term PWC is already widespread. Across the nation, there are public watercraft-launching areas that do not allow the launching of so-called PWC of the jet-powered kind. In areas that intend to forbid the launching of jet-powered PWC, other boaters have misinterpreted signs and literature to forbid the launching of all privately owned watercraft. The same confusion often occurs when outfitters of canoes and kayaks advertise PWC rentals: People believe that they can rent jet-powered Personal Watercraft.

The ACA believes that this problem is almost certain to get worse as the generic term watercraft is increasingly used as a term referring to specific water-jet-powered craft, contrary to its true definition as a term that refers to all waterborne vessels.

Operational Issues and PWC From the Perspective of the ACA

The ACA states that there is ample evidence that craft powered by water-jet pumps, especially those currently referred to as Personal Watercraft, are very different from traditional types of boats and need to be regulated differently in order to ensure the safety of other waterway users—including canoeists and kayakers—as well as the safety of the operators of the PWC themselves.

The ACA states that the need for these official definitions for regulatory purposes is obvious. Watercraft powered by water-jet pumps have significantly different operational characteristics from craft with traditional inboard and outboard motors; they are used differently from craft with traditional inboard and outboard motors; they are designed specifically for high-speed use; and, because of their unique design, they have different impacts on the environment and on other users of waterways.

Other Comments

A comment from an association promoting the safety of PWC states that we should formally recognize a definition of PWC because there is a mandate for change in the design of PWC to include capabilities of off-throttle steering and braking. According to the comment, subcategories of PWC might include craft designed to carry more than one person. The comment offers the definition from the PWIA as a simple definition of PWC. According to the comment, other terms such as jet skis, water scooters, and sport boats are not adequate, because the industry itself has, for the most part, adopted PWC in self-description.

A comment from the NTSB notes that for industry standards to be consistently applied manufacturers will need a clear definition of PWC.

A comment from a private association engaged in advocacy for national parks states that we should formally recognize a definition for PWC that includes larger vessels and jet boats. It favors a definition addressing design characteristics and end use, rather than specific dimensions. It also favors inclusion of all vessels whose primary purpose is thrill-related. It states that PWC are distinct in design and in intended use from traditional recreational boats, and that they should be defined as thrillcraft as they are in the State of Hawaii. It also states that the definition from the PWIA is inadequate, because it doesn't encompass all types of PWC, for example, special-purpose vessels propelled by PWC, and jet boats. The comment states that the definition from the PWIA fails to recognize that PWC are designed and marketed as high-speed thrillcraft meant to be used aggressively.

A comment from an environmental association believes that the definition from the PWIA is seriously flawed. It mentions the special-purpose vessels propelled by PWC and states that merely adding appendages to a PWC should not disqualify it from being regulated as a PWC. The comment also states that the definition from the PWIA excludes vessels such as jet boats that are clearly PWC. According to the comment, jet boats share, besides technology, many of the performance characteristics of modern PWC, such as the ability to perform extreme maneuvers and turns, achieve remarkably high speeds, and reach waters that conventional motorboats can't navigate.

Call for Comments

The Coast Guard encourages you to submit comments and related material responding to the suggestions of the ACA; others just discussed; the questions that follow; or other issues concerning definitions of watercraft. We also welcome any other comments in connection with this notice. Please include with your submission your name and address, identify the docket number for this rulemaking [USCG-1998-4734], indicate the specific questions in the next four paragraphs to which each comment applies, and give the reason for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period. Your comments will help us to determine whether to initiate a rulemaking in accordance with the petitioner's request.

Questions

1. Are the difficulties associated with the use of water-jet-driven recreational vessels so severe that they require the Coast Guard to adopt fresh terms and definitions, so as to describe those vessels and distinguish them from conventional propeller-driven vessels?

2. Should the Coast Guard adopt fresh terms and definitions to identify the recreational vessels now generally referred to as PWC that lack conventional hulls? If so, what? Is the definition suggested by the ACA adequate for one? Should any terms and definitions depend upon a minimum of water-jet thrust? Should any of them cover similar propeller-driven recreational vessels? How many people should such vessels carry, and how large should they be allowed to get, before they fall outside the definitions?

3. Should the Coast Guard adopt fresh terms and definitions to identify other types of recreational vessels propelled by water-jet pumps that have conventional hulls? If so, what? Is the definition suggested by the ACA adequate for one? Should any terms and definitions depend upon a minimum of water-jet thrust?

4. Should the Coast Guard adopt fresh terms and definitions to identify other types of recreational vessels such as canoes, kayaks, houseboats, bowriders, bassboats, and jonboats? If so, why?

Dated: June 24, 2002.
Kenneth T. Venuto,
Rear Admiral, Coast Guard, Director of Operations Policy.

[FR Doc. 02-16755 Filed 7-2-02; 8:45 am]

BILLING CODE 4910-15-P